DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 21, 2006.

Interested persons are invited to submit written comments regarding the subject matter of the investigations to the Director, Division of Trade Adjustment Assistance, at the address shown below, not later than April 21, 2006.

The petitions filed in this case are available for inspection at the Office of the Director, Division of Trade Adjustment Assistance, Employment and Training Administration, U.S. Department of Labor, Room C-5311, 200 Constitution Avenue, NW., Washington, DC 20210.

Signed at Washington, DC this 29th day of March 2006.
Erica R. Cantor
Director, Division of Trade Adjustment Assistance.

Appendix—
[TAA Petitions Instituted Between 3/6/06 and 3/10/06]
TA-W | Subject firm (Petitioners) | Location | Date of institution | Date of petition
58965 | Monmouth Ceramics, Inc. (Comp) | Monmouth, IL | 03/06/06 | 03/06/06
58966 | Quintiles, Inc. (Wkrs) | Morrisville, NC | 03/06/06 | 03/01/06
58967 | Spectrum Brands (Wkrs) | Fennimore, WI | 03/06/06 | 03/03/06
58968 | Maryland Plastics, Inc. (State) | Federalsburg, MD | 03/07/06 | 03/03/06
58969 | Panel Products (Wkrs) | White City, OR | 03/07/06 | 03/06/06
58970 | ADC (State) | Shakopee, MN | 03/07/06 | 03/06/06
58971 | Sotco, Inc. (Comp) | West Paducah, KY | 03/07/06 | 02/17/06
58972 | Elite Furniture Mfg. (Comp) | High Point, NC | 03/07/06 | 03/06/06
58973 | Arcona Leather Technologies, LLC (Wkrs) | Hudson, NC | 03/07/06 | 02/24/06
58974 | Affinia Group (Comp) | North East, PA | 03/07/06 | 03/07/06
58974A | Affinia Group (Comp) | Erie, PA | 03/07/06 | 03/07/06
58975 | Nazar Rubber Company (Union) | Toledo, OH | 03/07/06 | 03/07/06
58976 | Berkshire Weaving Corp. (Comp) | Lancaster, SC | 03/07/06 | 03/01/06
58977 | Oce' Imagistics, Inc. (State) | Melbourne, FL | 03/10/06 | 03/07/06
58978 | Confluent Photonics Corp. (Comp) | Salem, NH | 03/10/06 | 03/09/06
58979 | Tension Envelopes Corp. (State) | Minnetonka, MN | 03/10/06 | 03/07/06
58980 | Stora Enso (Comp) | Stevens Point, WI | 03/10/06 | 03/07/07
58981 | Cardinal Brands, Inc. (Comp) | Topeka, KS | 03/10/06 | 03/08/06
58982 | Guildcraft of California (State) | Rancho Dominguez, CA | 03/10/06 | 03/08/06
58983 | Hersey Meters (Comp) | Cleveland, NC | 03/10/06 | 03/08/06
58984 | Independent Steel Casting Co., Inc. (UAW) | New Buffalo, MI | 03/10/06 | 03/02/06
58985 | York International (Wkrs) | Bristol, VA | 03/10/06 | 03/02/06
58986 | Galerie DBA Ross Acquisitions (Wkrs) | Wellston, OH | 03/10/06 | 03/06/06
58987 | Lady Ester Lingerie Corporation (Comp) | Berwick, PA | 03/10/06 | 03/08/06
58988 | Orlandi Valuta (Wkrs) | Cerritos, CA | 03/10/06 | 03/09/06
58989 | Thermalcast, LLC (Wkrs) | Worcester, MA | 03/10/06 | 02/09/06
58990 | H.W. Close Plant Springs Global (Wkrs) | Fort Lawn, SC | 03/10/06 | 03/01/06
58991 | Lear Corporation (Wkrs) | Lebanon, VA | 03/10/06 | 03/06/06
58992 | Georgia Pacific Corp. (Union) | Gaylord, MI | 03/10/06 | 03/09/06
58993 | Ark-Les Custom Products Corporation (Comp) | New Berlin, WI | 03/10/06 | 03/03/06
58994 | Commercial Furniture Group, Inc. (Comp) | Morristown, TN | 03/10/06 | 03/09/06
58995 | Moore Wallace, Inc. (Comp) | Nacogdoches, TX | 03/10/06 | 03/08/06

[FR Doc. E6-5276 Filed 4-10-06; 8:45 am]

BILLING CODE 4510-30-P